DEPARTMENT OF COMMERCE

National Oceanic and Atmospheric Administration

RIN 0648-XF711

Caribbean Fishery Management Council; Public Meetings

AGENCY: National Marine Fisheries Service (NMFS), National Oceanic and Atmospheric Administration (NOAA), Commerce.

ACTION: Notice of Caribbean Fishery Management Council's (Council) Scientific and Statistical Committee (SSC) meeting change of dates due to the passing of hurricanes Irma and Maria through Puerto Rico.

SUMMARY: The Caribbean Fishery Management Council's SSC will hold a 5-day meeting, from October 30, 2017, to November 3, 2017, to discuss the items contained in the agenda below.

DATES: The meetings will be held from October 30 through November 3, 2017, from 9 a.m. to 5 p.m.

ADDRESSES: The meetings will be held at the Council Office, 270 Muñoz Rivera Avenue, Suite 401, San Juan, Puerto Rico.

FOR FURTHER INFORMATION CONTACT: Caribbean Fishery Management Council, 270 Muñoz Rivera Avenue, Suite 401, San Juan, Puerto Rico 00918-1903, telephone: (787) 766-5926.

SUPPLEMENTARY INFORMATION:

Agenda

—Call to Order

—Adoption of Agenda

—Overview

Review outcomes from previous meeting

—Review Acceptable Biological Catch (ABC) Control Rule Language

Review suggestions from General Counsel and Southeast Fisheries Science Center (SEFSC) on text of Tier 4 of the control rule

Develop language to define “consensus” as used in determining Tier assignments (or otherwise alter language to remove the term)

—Action 2: Finalize establishment of stock/stock complexes for each of the Puerto Rico, St. Croix, St. Thomas/St. John Fishery Management Plans (FMPs)

—Determine use of Indicator Species to recommend to the Council

—Finalize recommendations on:

—Criteria used to select indicator species

—How indicator species will be used to determine management reference points for stock complexes

—Action 3: Management Reference Points for Stocks/Stock complexes in each of the Puerto Rico, St. Thomas/St. John and St. Croix FMPs

Tiered ABC Control Rule:

—Review and finalize Tier assignments (4a or 4b): Puerto Rico, St. Croix, St. Thomas/St. John

—Define process for determining the scalars used in Tiered ABC Control Rule

—Define process for determining the buffer from the overfishing limit (OFL) to ABC (scientific uncertainty buffer) used in the Tiered ABC Control Rule.

—Choice of scalar and scientific uncertainty buffer for Tiers 4a and 4b for the applicable stocks.

Stocks/stock complexes to which the Tiered ABC CR cannot be applied:

—Recommendations on time series of landings data (year sequences) to establish reference points for the applicable stocks/stock complexes.

—Recommendations on the establishment of the maximum sustainable yield proxy (e.g., mean, median, following the Caribbean Annual Catch Limit Amendments' approach) for the applicable stocks/stock complexes.

—Recommendations on the scientific uncertainty buffer to determine the ABC for the applicable stocks/stock complexes.

—Recommendations to the Caribbean Fishery Management Council

—Other Business

The order of business may be adjusted as necessary to accommodate the completion of agenda items. The meeting will begin on October 30, 2017 at 9 a.m. Other than the start time, interested parties should be aware that discussions may start earlier or later than indicated. In addition, the meeting may be extended from, or completed prior to the date established in this notice.

Special Accommodations

These meetings are physically accessible to people with disabilities. For more information or request for sign language interpretation and other auxiliary aids, please contact Mr. Miguel A. Rolón, Executive Director, Caribbean Fishery Management Council, 270 Muñoz Rivera Avenue, Suite 401, San Juan, Puerto Rico, 00918-1903, telephone (787) 766-5926, at least 5 days prior to the meeting date.

Dated: October 5, 2017.
Tracey L. Thompson,
Acting Deputy Director, Office of Sustainable Fisheries, National Marine Fisheries Service.

[FR Doc. 2017-21886 Filed 10-10-17; 8:45 am]

BILLING CODE 3510-22-P